SMALL BUSINESS ADMINISTRATION

[Disaster Declaration #15578 and #15579; HAWAII Disaster Number HI-00045]

Presidential Declaration of a Major Disaster for the State of Hawaii

AGENCY: U.S. Small Business Administration.

ACTION: Notice.

SUMMARY: This is a Notice of the Presidential declaration of a major disaster for the State of Hawaii (FEMA—4365—DR), dated 06/27/2018.

Incident: Severe Storms, Flooding, Landslides, and Mudslides.

Incident Period: 04/13/2018 through 04/16/2018.

DATES: Issued on 06/27/2018.

Physical Loan Application Deadline Date: 08/27/2018.

Economic Injury (EIDL) Loan Application Deadline Date: 03/27/2019.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW, Suite 6050, Washington, DC 20416, (202) 205-6734.

SUPPLEMENTARY INFORMATION: Notice is hereby given that as a result of the President's major disaster declaration on 06/27/2018, applications for disaster loans may be filed at the address listed above or other locally announced locations.

The following areas have been determined to be adversely affected by the disaster:

Primary Areas (Physical Damage and Economic Injury Loans): The City and County of Honolulu and Kaua'i County

Contiguous Areas (Economic Injury Loans Only): None.

The Interest Rates are:

| Percent
For Physical Damage:
Homeowners With Credit Available Elsewhere | 3.625
Homeowners Without Credit Available Elsewhere | 1.813
Businesses With Credit Available Elsewhere | 7.160
Businesses Without Credit Available Elsewhere | 3.580
Non-Profit Organizations With Credit Available Elsewhere | 2.500
Non-Profit Organizations Without Credit Available Elsewhere | 2.500
For Economic Injury:
Businesses & Small Agricultural Cooperatives Without Credit Available Elsewhere | 3.580
Non-Profit Organizations Without Credit Available Elsewhere | 2.500

The number assigned to this disaster for physical damage is 155786 and for economic injury is 155790.

(Catalog of Federal Domestic Assistance Number 59008)

James Rivera,
Associate Administrator for Disaster Assistance.

[FR Doc. 2018-14324 Filed 7-2-18; 8:45 am]

BILLING CODE 8025-01-P